NUCLEAR REGULATORY COMMISSION

Docket No. 50-389

Florida Power & Light Company; Orlando Utilities Commission of The City of Orlando, Florida and Florida Municipal Power Agency; St. Lucie Plant Unit No. 2; Notice of Withdrawal of Application for Amendment to Facility Operating License

The U.S. Nuclear Regulatory Commission (the Commission) has granted the request of Florida Power and Light Company, et al. (the licensee), to withdraw its May 24, 1999, application for proposed amendment to Facility Operating License No. NPF-16 for the St. Lucie Plant, Unit No. 2, located in St. Lucie County, Florida. The proposed amendment would have revised the Technical Specification (TS) surveillance requirements for the safety injection tank (SIT) and shutdown cooling (SDC) system isolation valves.

The Commission had previously issued a Notice of Consideration of Issuance of Amendment published in the Federal Register on June 10, 1999 (64 FR 35216). However, by letter dated December 13, 1999, the licensee withdrew the proposed change.

For further details with respect to this action, see the application for amendment dated May 24, 1999, and the licensee's letter dated December 13, 1999, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 17th day of February 2000.
For the Nuclear Regulatory Commission.
Kahtan N. Jabbour,
Senior Project Manager, Section 2, Project Directorate II, Division of Licensing Project Management, Office of Nuclear Reactor Regulation.

[FR Doc. 00-4461 Filed 2-24-00; 8:45 am]

BILLING CODE 7590-01-P